DEPARTMENT OF STATE

[Public Notice 5634]

Bureau of Educational and Cultural Affairs (ECA) Request for Grant Proposals:

Fusion Arts Exchange programs on: Music Composition and Performance; Digital Media and Computer-Assisted Design; Screenwriting and Film Production; Sports Management

Announcement Type: New Cooperative Agreement.

Funding Opportunity Number: ECA/A/E/USS-07-FAX.

Catalog of Federal Domestic Assistance Number: 00.000.

Key Dates: Application Deadline: February 9, 2007.

Executive Summary: The Branch for the Study of the United States, Office of Academic Exchange Programs, Bureau of Educational and Cultural Affairs, invites proposal submissions for the design and implementation of four Fusion Arts Exchange programs. The programs will take place over the course of 37 days beginning the second week of July 2007, focused on the themes of Music Composition and Performance, Digital Media and Computer-Assisted Design, Screenwriting and Film Production, and Sports Management, respectively. These programs should provide a multinational group of outstanding undergraduate students a deeper understanding of U.S. society, culture, values and institutions, and should develop their knowledge of and abilities in the above-mentioned professional fields. Each program will host a total of 15 international participants from five Bureau-designated countries, as well as three to five American undergraduate students who will participate alongside their international peers. Prospective applicants may only apply to host one of the four programs listed under this competition; host institutions may not implement more than one Fusion Arts Exchange program concurrently.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The Fusion Arts Exchange consists of four multinational exchange programs, whose purpose is to provide outstanding undergraduate students an intensive, collaborative course on the latest developments in their respective fields (music composition and performance; digital media and computer-assisted design; screenwriting and film production; and sports management), and in the history and culture of the U.S. as illuminated through the lens of their fields. Participants will also learn about careers and economic development opportunities for their communities related to their field, and have the chance to develop on-going collaborations with their fellow participants.

The Bureau is seeking detailed proposals for four different Fusion Arts Exchange programs from U.S. colleges, universities, consortia of colleges and universities, and other not-for-profit academic organizations that have an established reputation in a field or discipline related to the specific program themes.

Overview: Each program should be 37 days in length, and should include an academic residency component and an educational study tour component.

The academic residency component should run for no less than 25 days and occur in and around the host institution's facilities. It should include professional seminars, workshops, roundtable discussions, lectures and local site visits. It should also devote time to allow Fusion Arts Exchange participants to shadow local professionals in their field.

The educational study tour should run for no less than nine days and should directly complement the academic residency component. It should consist of travel to sites of significance to the professional fields of Fusion Arts Exchange participants, and offer participants an immersive, firsthand experience of professional issues central to their specialization. It should include visits to another geographic region of the country, and access to leading organizations and individuals in the program's field that are not locally available. It should also provide for two to three days in Washington, DC, at the conclusion of the program. If appropriate, the educational study tour component may be interspersed with the residency portion of the program.

Upon completion of the program, the host institution will also be expected to provide participants with guidance and resources for further investigation and research on the topics and issues examined during the program after they return home.

The Fusion Arts Exchange Program on Music Composition and Performance should provide a multinational group of 18-20 experienced and highly-motivated undergraduates with an intensive, collaborative course on music composition and performance. The core of the program should consist of opportunities for individual and collaborative music composition, individual musical coaching, instrument-specific instruction, group lessons, and individual and group performance opportunities. Participants should have access to the highest quality music study and performance facilities at the host institution, and the latest developments in music recording and production should be addressed. A key component of the program should be an introductory course exploring American history, values and culture through the lens of American music, which should be integrated into the curriculum for its entirety and provide a framework for the exchange experience. Participants should learn from leading music academics and professionals about careers and current and potential economic development opportunities related to music in the participants' home countries. They should be given ample opportunity to develop on-going collaborations with their fellow participants. Bureau-designated participating countries for this program may include: Brazil, India, Ireland, Mali, South Africa, and the United States. One award of up to $280,000 (not to exceed $14,000 per participant, including American participants) will support this program. This award will not include funds for participant international travel to and from the United States, which will be the separate responsibility of the Department.

The Fusion Arts Exchange Program on Digital Media and Computer-Assisted Design should provide a multinational group of 18-20 experienced and highly-motivated undergraduates with an intensive, collaborative course on digital media and computer-assisted design. The program should cover the major topics and latest developments in interactive digital media, including animation; Web design; print layout and production; multimedia-print interfacing; digital photography production; game development; digital media research; and new forms of computer-related expression. The program should be designed to provide immersive, hands-on training. Participants should have access to the highest quality digital media facilities at the host institution, and the latest developments in digital media should be thoroughly addressed. The program should also offer opportunities to learn from leading digital media academics and professionals about careers and current and potential economic development opportunities related to digital media in the participants' home countries. A key component of the program should be an introductory course exploring American history, values and culture through American historical and contemporary visual art and communications, including fine art, visual advertising, Web-based media, and political cartoons or other art advocating a social movement or cause, which should be integrated into the curriculum for its entirety and provide a framework for the exchange experience. Participants should be given ample opportunity to develop on-going collaborations with their fellow participants. Bureau-designated participating countries for this program may include: Argentina, Japan, Jordan, South Korea, and the United States. One award of up to $280,000 (not to exceed $14,000 per participant, including American participants) will support this program. This award will not include funds for participant international travel to and from the United States, which will be the separate responsibility of the Department.

The Fusion Arts Exchange Program on Screenwriting and Film Production should provide a multinational group of 18-20 experienced and highly-motivated undergraduates with an intensive, collaborative course on screenwriting within the context of current film production techniques and standards. The core of the program should consist of an immersive, hands-on, production-oriented screenwriting workshop. Participants should have access to the highest quality film production facilities at the host institution, and the latest developments in film production as they relate to screenwriting should be thoroughly addressed. The program should also cover the major topics in film and television, including production, direction, cinematography, sound design, and editing, as they relate to screenwriting. Participants should have ample opportunity to learn from academics and working professionals about careers and current and potential economic development opportunities related to the film and television industries in the participants' home countries. A key component of the program should be an introductory course exploring American history, values and culture as seen through American film, which should be integrated into the curriculum for its entirety and provide a framework for the exchange experience. Participants should be given ample opportunity to develop on-going collaborations with their fellow participants. Bureau-designated participating countries for this program may include countries in Europe, Asia, Africa and the United States. One award of up to $280,000 (not to exceed $14,000 per participant, including American participants) will support this program. This award will not include funds for participant international travel to and from the United States, which will be the separate responsibility of the Department.

The Fusion Arts Exchange Program on Sports Management should provide a multinational group of 18-20 experienced and highly-motivated undergraduates with an intensive, collaborative course on the business of sports management. The program should cover the major topics in sports management, including marketing sports properties; sponsorship alliances; athlete, owner and fan relations; contractual negotiations; media licensing and other forms of licensing; women's sports development; and the economic and legal aspects of sports management. Participants should have ample opportunity to learn from academics and working professionals about careers and current and potential economic development opportunities related to the sports management profession in the participants' home countries. A key component of the program should be an introductory course exploring American history, values and culture through the lens of American sports history and culture, including films and literature about sports, which should be integrated into the curriculum for its entirety and provide a framework for the exchange experience. Participants should be given ample opportunity to develop on-going collaborations with their fellow participants. Bureau-designated participating countries for this program may include: Indonesia, Nigeria, Russia, Turkey, Venezuela, and the United States. One award of up to $280,000 (not to exceed $14,000 per participant, including American participants) will support this program. This award will not include funds for participant international travel to and from the United States, which will be the separate responsibility of the Department.

Program Design: Each Fusion Arts Exchange program should be designed as an intensive, interactive, academically rigorous seminar for an experienced group of undergraduate students from abroad and from the U.S. Each program should be organized through an integrated series of individual and group training workshops, lectures, readings, seminar discussions, public presentation opportunities, and regional travel and site visits. Applicants are encouraged to design creative, thematically coherent programs that draw upon the particular strengths, faculty and resources of their institutions as well as upon the nationally recognized expertise of scholars, professionals, artists and other experts throughout the United States. Academic facilities devoted to the program must be of the highest quality and should feature state-of-the-art technology. Applicants should clearly outline the facilities they propose to devote to the program and justify that they meet the above criteria.

Program Administration: Each Fusion Arts Exchange program should designate an academic director who will be present throughout the program to ensure the continuity, coherence and integration of all aspects of the academic program, including the educational study tour. In addition to the academic director, an administrative director or coordinator should be assigned to oversee all participant support services, including close oversight of the program participants, and budgetary, logistical, and other administrative arrangements. The administrative director or coordinator should be the Bureau's primary point of contact.

International Participants: Fifteen international participants per program will be nominated by U.S. Embassies and Fulbright Commissions from the five above-mentioned Bureau-designated countries for each program. Final selection will be made by the Bureau's Branch for the Study of the United States. Every effort will be made to select a balanced mix of male and female participants. International participants will be diverse in terms of academic and professional background. All international participants will have a good knowledge of English. Participants may or may not come from educational institutions where the study of their specialization is relatively well-developed. Preference will be given in the selection process to participants with no or limited experience with the United States, although some may have visited the United States previously. In all cases, participants will be accomplished undergraduate students, who will be prepared to participate in an intellectually, professionally and/or artistically rigorous academic seminar that offers a collegial atmosphere conducive to collaborative work and exchange of ideas.

American Participants: Three to five American undergraduate students, outstanding in their respective fields, should be competitively selected by each host institution as participants in its program. No more than one American participant per program may be a current or past student of that program's host institution. These American participants will participate in all aspects of the Fusion Arts Exchange program, living and working collaboratively with their international peers. Prospective host institutions will be evaluated on their ability to recruit appropriate American participants. American participants should be both exemplary cultural representatives of the United States and experienced in the discipline of the Fusion Arts Exchange for which they have been selected. In all cases, participants should be accomplished undergraduate students, who will be prepared to participate in an intellectually, professionally and/or artistically rigorous academic seminar that offers a collegial atmosphere conducive to collaborative work and exchange of ideas. Every effort should be made to select a balanced mix of male and female participants.

Program Dates: Proposed programs should be a maximum of 37 days in length (including participant arrival and departure days) and should begin during the second week of July 2007.

Program Guidelines: It is essential that proposals provide a detailed and comprehensive narrative describing the objectives of the program; the title, scope and content of each session; planned site visits; and how each session relates to the overall program professional focus and themes. A syllabus must be included that indicates the subject matter for each lecture, panel discussion, group presentation or other activity. The syllabus should also confirm or provisionally identify proposed speakers, trainers, and session leaders, and clearly show how assigned readings will advance the goals of each session. A calendar of all program activities must be included in the proposal, as well as a description of plans for public and media outreach in connection with the program. Overall, proposals will be reviewed on the basis of their responsiveness to RFGP criteria, coherence, clarity, and attention to detail.

Please note: In a cooperative agreement, the Branch for the Study of the United States is substantially involved in program activities above and beyond routine grant monitoring. The Branch will assume the following responsibilities for each Fusion Arts Exchange program: participate in the selection of international participants; oversee the program through regular contact with the administrator(s) and one or more site visits; debrief participants in Washington, DC at the conclusion of the program; and engage in follow-on communication with the participants after they return to their home countries. The Branch may request that the host institution make modifications to the academic residency and/or educational travel components of the program. The recipient will be required to obtain approval of significant program changes in advance of their implementation.

II. Award Information

Type of Award: Cooperative Agreement. ECA's level of involvement in this program is listed under number I above.

Fiscal Year Funds: FY-2007.

Approximate Total Funding: $1,120,000.

Approximate Number of Awards: 4.

Approximate Average Award: $280,000.

Ceiling of Award Range: $280,000.

Anticipated Award Date: Pending availability of funds, March 1, 2007.

Anticipated Project Completion Date: August 18, 2007.

Additional Information: Pending successful implementation of this program and the availability of funds in subsequent fiscal years, it is ECA's intent to renew this grant for two additional fiscal years, before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

a. Grants awarded to eligible organizations with less than four years of experience in conducting international exchange programs will be limited to $60,000. ECA anticipates awarding four grants, in amount over $60,0000 to support program and administrative costs required to implement this exchange program. Therefore, organizations with less than four years experience in conducting international exchanges are ineligible to apply under this competition. The Bureau encourages applicants to provide maximum levels of cost sharing and funding in support of its programs.

b. Technical Eligibility: It is the Bureau's intent to award four separate cooperative agreements to four different institutions under this competition. Therefore prospective applicants may only submit one proposal under this competition. All applicants must comply with this requirement. Should an applicant submit multiple proposals under this competition, all proposals will be declared technically ineligible and given no further consideration in the review process.

IV. Application and Submission Information

Note: Please read the complete announcement before sending inquiries or submitting proposals. Once the RFGP deadline has passed, Bureau staff may not discuss this competition with applicants until the proposal review process has been completed.

IV.1 Contact Information to Request an Application Package: Please contact the Branch for the Study of the United States, ECA/A/E/USS, Room 314, U.S. Department of State, SA-44, 301 4th Street, SW., Washington, DC 20547; tel. (202) 453-8540; fax (202) 453-8533 to request a Solicitation Package. Please refer to the Funding Opportunity Number ECA/A/E/USS-07-FAX located at the top of this announcement when making your request.

Alternatively, an electronic application package may be obtained from grants.gov. Please see section IV.3f. for further information.

The Solicitation Package contains the Proposal Submission Instruction (PSI) document which consists of required application forms, and standard guidelines for proposal preparation. It also contains the Project Objectives, Goals and Implementation (POGI) document, which provides specific information, award criteria and budget instructions tailored to this competition.

For specific questions on the Fusion Arts Exchange programs, please specify Adam Van Loon, VanLoonAE@state.gov and refer to the Funding Opportunity Number ECA/A/E/USS-07-FAX located at the top of this announcement on all other inquiries and correspondence.

IV.2. To Download a Solicitation Package Via Internet: The entire Solicitation Package may be downloaded from the Bureau's Web site at http://exchanges.state.gov/education/rfgps/menu.htm, or from the Grants.gov website at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements.

ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for overall program management, staffing, and coordination with Branch for the Study of the United States. The Branch considers these to be essential elements of your program; please be sure to give sufficient attention to them in your proposal. Please refer to the Technical Eligibility Requirements and the POGI in the Solicitation Package for specific guidelines.

IV.3e. Please take the following information into consideration when preparing your budget:

IV.3e.1. Applicants must submit a comprehensive budget for the entire program. Awards may not exceed $280,000 in total and $14,000 per participant. There must be a summary budget as well as breakdowns reflecting both administrative and program budgets. Applicants may provide separate sub-budgets for each program component, phase, location, or activity to provide clarification.

IV.3e.2. Allowable costs for the program include the following:

(1) Program staff salary and benefits;

(2) Participant housing and meals;

(3) Participant travel and per diem;

(4) Textbooks, educational materials and admissions fees;

(5) Honoraria for guest speakers.

Please refer to the Solicitation Package for complete budget guidelines and formatting instructions.

IV.3f. Application Deadline and Methods of Submission:

Application Deadline Date: February 9, 2007.

Reference Number: ECA/A/E/USS-07-FAX.

Methods of Submission:

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 10 copies of the application should be sent to: U.S. Department of State, SA-44, Bureau of Educational and Cultural Affairs, Ref.: ECA/xx-00-xx (each Program Office assigns a unique number), Program Management, ECA/EX/PM, Room 534, 301 4th Street, SW., Washington, DC 20547.

(Include following language re: disk submission only if proposals will be forwarded to embassies. If post input is not necessary, delete language.)

Applicants submitting hard-copy applications must also submit the “Executive Summary” and “Proposal Narrative” sections of the proposal in text (.txt) format on a PC-formatted disk. The Bureau will provide these files electronically to the appropriate Public Affairs Section(s) at the U.S. embassy(ies) for its (their) review.

IV.3f.2. Submitting Electronic Applications. Applicants have the option of submitting proposals electronically through Grants.gov (http://www.grants.gov). Complete solicitation packages are available at Grants.gov in the “Find” portion of the system. Please follow the instructions available in the ‘Get Started’ portion of the site (http://www.grants.gov/GetStarted). Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. Therefore, we strongly recommend that you not wait until the application deadline to begin the submission process through Grants.gov.

Direct all questions regarding Grants.gov registration and submission to: Grants.gov Customer Support. Contact Center Phone: 800-518-4726. Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

Optional—IV.3f.3 You may also state here any limitations on the number of applications that an applicant may submit and make it clear whether the limitation is on the submitting organization, individual program director or both.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards cooperative agreements resides with the Bureau's Grants Officer.

Review Criteria

Technically eligible applications will be competitively reviewed according to the criteria stated below. These criteria are not rank ordered and all carry equal weight in the proposal evaluation:

1. Quality of Program Idea/Plan: Proposals should exhibit originality, substance, precision, and relevance to the Bureau's mission. Detailed agenda and relevant work plan should demonstrate substantive undertakings and logistical capacity.

2. Ability to Achieve Overall Program Objectives: Objectives should be reasonable, feasible, and flexible. Proposals should clearly demonstrate how the institution will meet the program's objectives and plan.

3. Support for Diversity: Proposals should demonstrate substantive support of the Bureau's policy on diversity. Achievable and relevant features should be cited in both program administration (program venue, study tour venue, and program evaluation) and program content (orientation and wrap-up sessions, site visits, program meetings and resource materials).

4. Evaluation and Follow-Up: Proposals should include a plan to evaluate the Program's success, both as the activities unfold and at the end of the program. A draft survey questionnaire or other technique plus description of a methodology to use to link outcomes to original program objectives is strongly recommended. Proposals should also discuss provisions made for follow-up with returned grantees as a means of establishing longer-term individual and institutional linkages.

5. Cost-effectiveness/Cost-sharing: The overhead and administrative components of the proposal, including salaries and honoraria, should be kept as low as possible. All other items should be necessary and appropriate. Proposals should maximize cost-sharing through other private sector support as well as institutional direct funding contributions.

6. Institutional Track Record/Ability: Proposals should demonstrate an institutional record of successful exchange programs, including responsible fiscal management and full compliance with all reporting requirements for past Bureau grants as determined by Bureau Grants Staff. The Bureau will consider the past performance of prior recipients and the demonstrated potential of new applicants. Proposed personnel and institutional resources should be fully qualified to achieve the Program's goals.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following websites for additional information: http://www.whitehouse.gov/omb/grants. http://exchanges.state.gov/education/grantsdiv/terms.htm#articleI.

VI.3. Reporting Requirements: You must provide ECA with a hard copy original plus one (1) copy of the final program and financial report no more than 90 days after the expiration of the award.

Grantees will be required to provide reports analyzing their evaluation findings to the Bureau in their regular program reports. Please refer to Application and Submission Instructions (IV.3d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Branch for the Study of the United States, ECA/A/E/USS, Room 314, U.S. Department of State, SA-44, 301 4th Street, SW., Washington, DC 20547; tel. (202) 453-8540; fax (202) 453-8533. For specific questions on the Fusion Arts Exchange program, contact Adam Van Loon at VanLoonAE@state.gov.

All correspondence with the Bureau concerning this RFGP should reference the title “Fusions Arts Exchange” and number ECA/A/E/USS-07-FAX.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 28, 2006.
Dina Habib Powell,
Assistant Secretary for Educational and Cultural Affairs Department of State.

[FR Doc. E6-20785 Filed 12-6-06; 8:45 am]

BILLING CODE 4710-05-P